DEPARTMENT OF STATE

[Public Notice: 12346]

Clean Energy Resources Advisory Committee

ACTION: Announcement of meeting.

SUMMARY: The Department of State will host a virtual, open meeting of the Clean Energy Resources Advisory Committee (CERAC). There will not be an in-person option for this meeting.

DATES: CERAC will meet virtually March 22, 2024 from 1:30 p.m. to 3 p.m. (EST).

FOR FURTHER INFORMATION CONTACT: Bureau of Energy Resources, Energy Officer Mark Murray at CERAC@state.gov, 771-205-0994.

SUPPLEMENTARY INFORMATION:

Purpose: This Committee will provide input and advice regarding energy minerals and metals, their supply chains, and end uses. This meeting will focus on the Minerals Security Partnership (MSP) and Minerals Investment Network for Vital Energy Security and Transition (MINVEST) efforts, as well as outcomes and results from COP28, and the impact of the Inflation Reduction Act (IRA) one year on.

Participation: Members of the public wishing to participate must RSVP by March 20, 2024, via email to CERAC@state.gov (subject line: RSVP). The Department will provide login information prior to the meeting. Requests for reasonable accommodation should be submitted no later than March 15, 2024. Reasonable accommodation requests received after that date will be considered but may not be possible to fulfill.

Any written comments should be emailed to CERAC@state.gov with “PUBLIC COMMENT” as the subject line at least 48 hours before the start of the meeting. During this meeting, there will not be an option for members of the public to make oral statements.

(Authority: 5 U.S.C. 1009 and 22 U.S.C. 2651a)

Mark J. Murray,
Energy Officer, Bureau of Energy Resources, Department of State.

[FR Doc. 2024-04143 Filed 2-27-24; 8:45 am]

BILLING CODE 4710-AE-P